DEPARTMENT OF COMMERCE

National Oceanic and Atmospheric Administration

[Docket No. 960223046-4076-09; I.D. 020404D]

RIN 0648-ZA09

Financial Assistance for Research and Development Projects to Strengthen and Develop the U.S. Fishing Industry (Saltonstall-Kennedy Program)

AGENCY: National Marine Fisheries Service (NMFS), National Oceanic and Atmospheric Administration (NOAA), Commerce.

ACTION: Notice.

SUMMARY: NMFS cancels the competitive Saltonstall-Kennedy (S-K) Grant Program for fiscal year 2004 due to insufficient funding.

FOR FURTHER INFORMATION CONTACT: Alicia Jarboe, 301-713-2358.

SUPPLEMENTARY INFORMATION: The S-K Grant Program solicitation was originally included in the NOAA Omnibus Notice, Availability of Grant Funds for Fiscal Year 2004, published in the Federal Register on June 30, 2003 (68 FR 38678). Due to insufficient funding, NMFS cancels the competitive grant program announced in that solicitation.

NMFS will return to the applicants all applications NMFS received in response to the solicitation.

The S-K Grant Program is listed in the Catalog of Federal Domestic Assistance (CFDA) under Grant Program 11.427, Fisheries Development and Utilization Research and Development Grants and Cooperative Agreements Program.

Dated: March 15, 2004.
William T. Hogarth,
Assistant Administrator for Fisheries, National Marine Fisheries Service.

[FR Doc. 04-6228 Filed 3-18-04; 8:45 am]

BILLING CODE 3510-22-S